DEPARTMENT OF STATE

[Public Notice 7102]

In the Matter of the Designation of Harakat-ul Jihad Islami, Also Known as HUJI, Also Known as Movement of Islamic Holy War, Also Known as Harkat-ul-Jihad-al Islami, Also Known as Harkat-al-Jihad-ul Islami, Also Known as Harkat-ul-Jehad-al-Islami, Also Known as Harakat ul Jihad-e-Islami, Also Known as Harakat-ul Jihad Islami, as a Specially Designated Global Terrorist Pursuant, to Section 1(b) of Executive Order 13224, as Amended

Acting under the authority of and in accordance with section 1(b) of Executive Order 13224 of September 23, 2001, as amended by Executive Order 13268 of July 2, 2002, and Executive Order 13284 of January 23, 2003, I hereby determine that the organization known as Harakat-ul Jihad Islami, also known as HUJI, also known as Movement of Islamic Holy War, also known as Harkat-ul-Jihad-al Islami, also known as Harkat-al-Jihad-ul Islami, also known as Harkat-ul-Jehad-al-Islami, also known as Harakat ul Jihad-e-Islami, also known as Harakat-ul Jihad Islami, committed or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

Dated: May 18, 2010.
Hillary Rodham Clinton,
Secretary of State.

[FR Doc. 2010-19444 Filed 8-5-10; 8:45 am]

BILLING CODE 4710-10-P